DEPARTMENT OF DEFENSE

Office of the Secretary

Notice of Federal Advisory Committee Meeting—Defense Advisory Committee on Investigation, Prosecution, and Defense of Sexual Assault in the Armed Forces

AGENCY: General Counsel of the Department of Defense, Department of Defense (DoD).

ACTION: Notice of Federal Advisory Committee meeting.

SUMMARY: The DoD is publishing this notice to announce that the following Federal Advisory Committee meeting of the Defense Advisory Committee on Investigation, Prosecution, and Defense of Sexual Assault in the Armed Forces (DAC-IPAD) will take place.

DATES: Wednesday, February 21, 2024—Open to the public from 12:30 p.m. to 1:30 p.m. EST.

ADDRESSES: This meeting will be held virtually. The meeting can be accessed virtually via the following dial-in number and links: Dial-in: (669) 254-5252/(646) 828-7666, Meeting ID: 161 327 2379, Passcode: 615243. Link: https://www.zoomgov.com/j/1613272379?pwd=ZHlLSU5maS9ZV3ZSREZOdllMVmdkdz09, Meeting ID: 161 327 2379, Passcode: 615243.

FOR FURTHER INFORMATION CONTACT: Dwight Sullivan, 703-695-1055 (Voice), dwight.h.sullivan.civ@mail.mil (Email). Mailing address is DACIPAD, One Liberty Center, 875 N. Randolph Street, Suite 150, Arlington, Virginia 22203. Website: http://dacipad.whs.mil/. The most up-to-date changes to the meeting agenda can be found on the website.

SUPPLEMENTARY INFORMATION: This meeting is being held under the provisions of chapter 10 of title 5 United States Code (U.S.C.) (formerly the Federal Advisory Committee Act (FACA) of 1972 (5 U.S.C., App.)), the Government in the Sunshine Act of 1976 (5 U.S.C. 552b, as amended), and 41 CFR 102-3.140 and 102-3.150.

Purpose of the Meeting: In section 546 of the National Defense Authorization Act (NDAA) for Fiscal Year 2015 (Pub. L. 113-291), as modified by section 537 of the NDAA for Fiscal Year 2016 (Pub. L. 114-92), Congress tasked the DAC-IPAD to advise the Secretary of Defense on the investigation, prosecution, and defense of allegations of rape, forcible sodomy, sexual assault, and other sexual misconduct involving members of the Armed Forces. This will be the thirty-third public meeting held by the DAC-IPAD. At this meeting the Committee will conduct deliberations on the sixth annual report and receive a staff briefing on military installation site visits and plans for future meetings.

Agenda: 12:30 p.m.-1:05 p.m. Opening Remarks; Discussion, Deliberations, and Voting on Sixth Annual Report; 1:05 p.m.-1:30 p.m. Staff briefing on Military Installation Site Visits and Plans for Future Meetings; 1:30 Public Meeting Adjourned.

Meeting Accessibility: Pursuant to 41 CFR 102-3.140 and 5 U.S.C. 1009(a)(1), the public or interested organizations may submit written comments to the DAC-IPAD about its mission and topics pertaining to this public meeting. Written comments must be received by the DAC-IPAD at least five (5) business days prior to the meeting date so that they may be made available to the DAC-IPAD members for their consideration prior to the meeting. Written comments should be submitted via email to the DAC-IPAD at whs.pentagon.em.mbx.dacipad@mail.mil in the following formats: Adobe Acrobat or Microsoft Word. Please note that since the DAC-IPAD operates under the provisions of the FACA, all written comments will be treated as public documents and will be made available for public inspection.

Written Statements: Pursuant to 41 CFR 102-3.140 and 5 U.S.C. 1009(a)(3), interested persons may submit a written statement to the DAC-IPAD. Individuals submitting a statement must submit their statement no later than 5:00 p.m. EST, Tuesday, February 20, 2024, to Dwight Sullivan, 703-695-1055 (Voice), 703-693-3903 (Facsimile), dwight.h.sullivan.civ@mail.mil (Email). If a statement pertaining to a specific topic being discussed at the planned meeting is not received by Tuesday, February 20, 2024, then it may not be provided to, or considered by, the Committee during the February 21, 2024 meeting. The Designated Federal Officer will review all timely submissions with the DAC-IPAD Chair and ensure such submissions are provided to the members of the DAC-IPAD before the meeting. Any comments received by the DAC-IPAD prior to the stated deadline will be posted on the DAC-IPAD website (http://dacipad.whs.mil/).

Dated: January 22, 2024.
Aaron T. Siegel,
Alternate OSD Federal Register Liaison Officer, Department of Defense.

[FR Doc. 2024-01492 Filed 1-24-24; 8:45 am]

BILLING CODE 6001-FR-P